DEPARTMENT OF TRANSPORTATION

Office of the Secretary

Aviation Proceedings, Agreements Filed the Week Ending March 24, 2006

The following Agreements were filed with the Department of Transportation under Sections 412 and 414 of the Federal Aviation Act, as amended (49 U.S.C. 1382 and 1384) and procedures governing proceedings to enforce these provisions. Answers may be filed within 21 days after the filing of the application.

Docket Number: OST-2006-24237.

Date Filed: March 20, 2006.

Parties: Members of the International Air Transport Association.

Subject: TC12 North Atlantic-Middle East except between USA and Jordan (Memo 0249).

Minutes: TC12 North/Mid/South Atlantic-Middle East Geneva & Teleconference, 16-17 February 2006 (Memo 0252).

Fares: TC12 North/Mid/South Atlantic-Middle East Geneva & Teleconference, 16-17 February 2006 (Memo 0138).

Intended effective date: 1 April 2006.

Docket Number: OST-2006-24266.

Date Filed: March 23, 2006.

Parties: Members of the International Air Transport Association.

Subject: PTC2 ME-AFR 0144 dated 23 February 2006 TC2 Middle East-Africa Resolutions r1-r14.

Minutes: PTC2 ME-AFR 0145 dated 28 January 2006.

Tables: PTC2 ME-AFR Fares 0072 dated 23 February 2006.

Intended effective date: 1 May 2006.

Docket Number: OST-2006-24272.

Date Filed: March 23, 2006.

Parties: Members of the International Air Transport Association.

Subject: PTC2 AFR 0167 dated 23 February 2006, PTC2 Within Africa Resolutions R1-R23, PTC2 AFR 0168 dated 28 February 2006, PTC2 AFR Fares 0060 dated 23 February 2006.

Intended effective date: 1 May 2006.

Renee V. Wright,
Program Manager, Docket Operations, Federal Register Liaison.

[FR Doc. E6-5716 Filed 4-17-06; 8:45 am]

BILLING CODE 4910-62-P